INTERNATIONAL TRADE COMMISSION

Notice of Request for Extension of a Previously Approved Information Collection and Request for Comment; Request for Comment on Designation of Confidential Information

AGENCY: United States International Trade Commission.

ACTION: 60-Day notice and request for comment.

SUMMARY: This notice announces the intention of the U.S. International Trade Commission (Commission) to request a three-year extension, under the Paperwork Reduction Act of 1995 (the Act), of the current generic survey clearance that the Office of Management and Budget (OMB) previously approved. The Commission uses this clearance to issue information collections for investigations that it is required to conduct under the Tariff Act of 1930, the Trade Act of 1974, and other trade-remedy statutes that require or authorize the Commission to make findings or determinations. The current generic survey clearance is assigned OMB Control No. 3117-0016; it will expire on June 30, 2026. The Commission requests comments concerning the proposed information collections under section 3506(c)(2)(A) of the Act; this notice describes such comments in greater detail in the supplementary information section below. In addition, the Commission is seeking public comment on how, if at all, it should revise these questionnaires in light of the decision by the Court of Appeals for the Federal Circuit cited below.

DATES: To assure that the Commission will consider your comments, it must receive them no later than 60 days after publication of this notice in the Federal Register.

ADDRESSES: Submit signed comments identified by docket number MISC-048 via the Commission's Electronic Document Information System (EDIS, https://edis.usitc.gov) or to Lisa Barton, Secretary to the Commission, U.S. International Trade Commission, 500 E St. SW, Washington, DC 20436.

FOR FURTHER INFORMATION CONTACT: You may obtain copies of the proposed information collection and supporting documentation from Stamen Borisson, Office of Investigations, stamen.borisson@usitc.gov, (202) 205-3125. Hearing-impaired persons can obtain information on this matter by contacting the Commission's TDD terminal on 202-205-1810. Persons with mobility impairments who will need special assistance in gaining access to the Commission should contact the Office of the Secretary at 202-205-2000. You may also obtain general information concerning the Commission by accessing its website (http://www.usitc.gov).

SUPPLEMENTARY INFORMATION:

Request for Comments

The Commission solicits comments on its collection of information through questionnaires issued in its import injury investigations with respect to two issues.

First, the Commission solicits comments in connection with the Paper Work Reduction Act as to: (1) whether the proposed information collection is necessary for the proper performance of the Commission's functions; (2) the accuracy of the Commission's estimate of the burden of the proposed information collection; (3) the quality, utility, clarity, and design of the information to be collected; and (4) minimization of the burden of the proposed information collection on those who are to respond (including through the use of appropriate automation, electronic filing, or other forms of information technology).To the extent appropriate, please cite to specific experiences that your firm has had with other governmental surveys and data collections.

Second, on February 2, 2026, the Court of Appeals for the Federal Circuit issued its decision In re United States. The Court held that “the Commission's practice of automatically designating all questionnaire responses as confidential is not authorized by the statute.” In re United States, 2025-127, slip op. at 21 (Feb. 2, 2026). The Commission solicits comments as to how it should designate confidential information or otherwise revise its questionnaires in light of the Federal Circuit decision.

Summary of the Proposed Information Collections

(1) Need for the Proposed Information Collections

The Commission utilizes, or may utilize, the information requested in questionnaires and five-year review institution notices issued under the generic survey clearance in the following statutory investigation types: antidumping duty, countervailing duty, safeguards, other import competition, market disruption, interference with programs of the U.S. Department of Agriculture, and cross-border long-haul trucking. This clearance also covers questionnaires needed for new types of trade-remedy investigations when directed in new legislation, such as rules of origin investigations or other matters in which the Commission is directed to make a determination or finding. The vast majority of information requests issued by the Commission under the existing generic clearance authority relate to antidumping and countervailing duty investigations, or reviews of orders previously issued in such investigations. The Commission's generic survey clearance to issue questionnaires does not apply to fact-finding investigations conducted under section 332 of the Tariff Act of 1930.

The information provided by firms in response to the questionnaires under this authority provides information that the Commission uses in making its findings and determinations. Commission staff consolidates submitted information and provides it to the Commission primarily in the form of data tables, figures, and analysis within a written report. In addition, the Commission treats information provided in the questionnaires as confidential and releases completed questionnaires returned by industry participants to representatives of parties to its investigations under an administrative protective order, the terms of which safeguard the confidentiality of any business proprietary or business confidential information. Representatives of interested parties also receive a confidential version of Commission reports under that same administrative protective order. Included in the proposed generic clearance is the administrative protective order application form and the forms associated with submitting new petitions to the Commission. Also included in the proposed generic clearance are the institution notices for the five-year reviews of antidumping and countervailing duty orders and suspended investigations. The Commission evaluates responses to the institution notices, which will form much of the record supporting the Commission's determinations to conduct either expedited or full five-year reviews of existing antidumping and countervailing duty orders.

(2) Information Collection Plan

The Commission sends questionnaires for specific investigations to all identified domestic producers of the product(s) in question subject to the Commission proceeding. The Commission also sends importer and purchaser questionnaires to all substantial U.S. importers and purchasers of the product(s). Further, the Commission sends questionnaires to all foreign manufacturers of the product(s) in question that are represented by counsel, and, in addition, it attempts to contact any other foreign manufacturers, especially if they export the product(s) in question to the United States. Firms receiving questionnaires include businesses, farms, and other for-profit institutions; responses by domestic firms are mandatory. The Commission publishes institution notices for the five-year reviews in the Federal Register and solicits comments from interested parties (e.g., U.S. producers within the industry in question, as well as labor unions or representative groups of workers, U.S. importers and foreign exporters, and involved foreign country governments).

(3) Description of the Information To Be Collected

These questionnaires are based on long-established, generic formats, that align the data being gathered to the specific points of analysis that the statutes direct the Commission to analyze, although the content of each questionnaire will differ based on the needs of a particular investigation. Producer questionnaires generally consist of the following four parts: (part I) general questions relating to the organization and activities of the firm; (part II) data on capacity, production, inventories, employment, and the quantity and value of the firm's shipments and purchases from various sources; (part III) financial data, including income-and-loss data on the product in question, data on asset valuation, research and development expenses, and capital expenditures; and (part IV) pricing and market factors. Questionnaires may, on occasion, also contain additional parts depending on the facts of the case and the arguments raised by interested parties, the most frequent of which relate to information to assess proposed alternative definitions of the domestic like product.

Importer questionnaires generally consist of three parts: (part I) general questions relating to the organization and activities of the firm; (part II) data on the firm's imports and the shipment and inventories of its imports; and (part III) pricing and market factors similar to that requested in the domestic producer questionnaire. Purchaser questionnaires generally consist of four parts: (part I) general questions relating to the organization and activities of the firm; (part II) data concerning the purchases of the product by the firm and the names of the firm's vendors; (part III) market characteristics and purchasing practices; and (part IV) comparisons between imported and U.S.-produced product. The Commission may send an abbreviated purchaser questionnaire: (1) in a preliminary phase investigation, consisting of two parts: (part I) data concerning the purchases of the product by the firm; and (part II) questions regarding purchasing practices; or (2) in an adequacy phase of a review investigation, consisting of one part: (part I) general questions regarding the industry. Foreign producer questionnaires generally consist of: (part I) general questions relating to the organization and activities of the firm; (part II) data concerning the firm's manufacturing operations; and may include (part III) market factors. The notices of institution for the five-year reviews include 11 specific requests for information that firms are to provide if their response is to be considered by the Commission.

(4) Estimated Burden of the Proposed Information Collection

The Commission estimates that information collections issued under the requested generic clearance will impose an average annual burden of 409,250 hours on 12,935 respondents (i.e., recipients that provide a response to the Commission's questionnaires, notices of institution of five-year reviews, and other investigations and forms).

(5) Minimization of Burden

The Commission periodically reviews its investigative processes, including data collection, to reduce the information burden. Questionnaires clearly state that reasonable estimates are acceptable for certain items. The questionnaires are designed in part with check-in type formats to simplify the response. The reporting burden is reduced by limiting data to a terminal year when a time series is not required. Moreover, the reporting burden for smaller firms is reduced in that the sections of the questionnaire that are applicable to their operations are typically more limited and, when pertinent, there are fewer requested data points. The Commission will not accept requests by parties to expand the data collection or add items to the questionnaire for specific investigations if it believes that such requests will increase the response burden without substantially adding to the investigative record. Respondents submit the information provided in response to the Commission's notices of institution for the five-year reviews electronically to the Commission's Electronic Data Information System (EDIS) and Electronic Docket. In addition, the Commission has reduced the information burden by streamlining the questionnaires. For example, the Commission removed redundant fields, added auto-calculated reconciliation fields, enabled population of whole data tables, reduced the number of years for which data is collected in certain five-year reviews, and streamlined data collections for preliminary proceedings.

No record keeping burden is known to result from the proposed collection of information.

By order of the Commission.
Issued: February 25, 2026.
Lisa Barton,
Secretary to the Commission.

[FR Doc. 2026-04025 Filed 2-27-26; 8:45 am]

BILLING CODE 7020-02-P